SMALL BUSINESS ADMINISTRATION

[Disaster Declaration #21199 and #21200; KENTUCKY Disaster Number KY-20022]

Presidential Declaration Amendment of a Major Disaster for Public Assistance Only for the Commonwealth of Kentucky

AGENCY: U.S. Small Business Administration.

ACTION: Amendment 1.

SUMMARY: This is an amendment of the Presidential declaration of a major disaster for Public Assistance Only for the Commonwealth of Kentucky (FEMA-4875-DR), dated July 22, 2025.

Incident: Severe Storms, Straight-line Winds, and Tornadoes.

DATES: Issued on July 23, 2025.

Incident Period: May 16, 2025 through May 17, 2025.

Physical Loan Application Deadline Date: September 22, 2025.

Economic Injury (EIDL) Loan Application Deadline Date: April 22, 2026.

ADDRESSES: Visit the MySBA Loan Portal at https://lending.sba.gov to apply for a disaster assistance loan.

FOR FURTHER INFORMATION CONTACT: Sharon Henderson, Office of Disaster Recovery & Resilience, U.S. Small Business Administration, 409 3rd Street SW, Suite 6050, Washington, DC 20416, (202) 205-6734.

SUPPLEMENTARY INFORMATION: The notice of the President's major disaster declaration for Private Non-Profit organizations in the Commonwealth of Kentucky, dated July 22, 2025, is hereby amended to include the following areas as adversely affected by the disaster.

Primary Counties: Allen, Cumberland, Whitley.

All other information in the original declaration remains unchanged.

(Catalog of Federal Domestic Assistance Number 59008)

(Authority: 13 CFR 1234.3(b).)

James Stallings,
Associate Administrator, Office of Disaster Recovery & Resilience.

[FR Doc. 2025-14422 Filed 7-29-25; 8:45 am]

BILLING CODE 8026-09-P